DEPARTMENT OF COMMERCE

National Oceanic and Atmospheric Administration

RIN 0648-XD530

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of its Snapper Grouper Advisory Panel (AP) in North Charleston, SC. The meeting is open to the public.

DATES: The meeting will be held from 9 a.m. until 5 p.m. on Tuesday, October 21, 2014 and from 9 a.m. until 5 p.m. on Wednesday, October 22, 2014.

ADDRESSES:

Meeting Address: The meeting will be held at the Crowne Plaza, 4381 Tanger Outlet Blvd., N. Charleston, SC 29418; telephone: (877) 747-7301.

Council Address: South Atlantic Fishery Management Council, 4055 Faber Place Drive, Suite 201, N. Charleston, SC 29405.

FOR FURTHER INFORMATION CONTACT: Kim Iverson, Public Information Officer, South Atlantic Fishery Management Council, 4055 Faber Place Drive, Suite 201, N. Charleston, SC 29405; telephone: (843) 571-4366 or toll free: (866) SAFMC-10; fax: (843) 769-4520; email: kim.iverson@safmc.net.

SUPPLEMENTARY INFORMATION:

The Snapper Grouper Advisory Panel will receive an update on the status of various amendments to the Snapper Grouper Fishery Management Plan (FMP) and other amendments affecting the snapper grouper fishery. AP members will receive overviews and provide recommendations on the following amendments to the Snapper Grouper FMP: Regulatory Amendment 16 with options to remove the current seasonal closure for the commercial black sea bass pot fishery; Regulatory Amendment 22 addressing management measures for gag grouper and wreckfish; the development of a Joint South Atlantic and Gulf of Mexico Amendment on South Florida Issues; Amendment 36 to establish Spawning Special Management Zones (SMZs); and Amendment 35 that would remove some species from the snapper grouper management complex.

The AP will also receive updates on the development of a recreational tag program through Amendment 22 and updates on stock assessments for hogfish, mutton snapper, red snapper and gray triggerfish. The AP will receive updates on electronic reporting efforts, the Council's Visioning and Strategic Planning Project for the snapper grouper fishery, and address other business as necessary.

Although non-emergency issues not contained in this agenda may come before this group for discussion, those issues may not be the subject of formal action during the meeting. Action will be restricted to those issues specifically listed in this notice and any issues arising after publication of this notice that require emergency action under section 305(c) of the Magnuson-Stevens Act, provided the public has been notified of the Council's intent to take final action to address the emergency.

Special Accommodations

The meeting is physically accessible to people with disabilities. Requests for auxiliary aids should be directed to the Council office (see ADDRESSES) 3 days prior to the meeting.

Note: The times and sequence specified in this agenda are subject to change.

Dated: October 1, 2014.
Tracey L. Thompson,
Acting Deputy Director, Office of Sustainable Fisheries, National Marine Fisheries Service.

[FR Doc. 2014-23752 Filed 10-3-14; 8:45 am]

BILLING CODE 3510-22-P